DEPARTMENT OF TRANSPORTATION

Federal Aviation Administration

14 CFR Part 39

[Docket No. FAA-2007-28299; Directorate Identifier 2005-NM-139-AD; Amendment 39-15354; AD 2008-03-05]

RIN 2120-AA64

Airworthiness Directives; Boeing Model 747-100, 747-100B, 747-100B SUD, 747-200B, 747-200C, 747-200F, 747-300, 747-400, 747-400D, 747-400F, 747SR, and 747SP Series Airplanes; and Model 767-200 and -300 Series Airplanes; Equipped With Certain Goodrich Evacuation Systems

AGENCY: Federal Aviation Administration (FAA), Department of Transportation (DOT).

ACTION: Final rule.

SUMMARY: The FAA is adopting a new airworthiness directive (AD) for certain Boeing Model 747-100, 747-100B, 747-100B SUD, 747-200B, 747-200C, 747-200F, 747-300, 747-400, 747-400D, 747-400F, 747SR, and 747SP series airplanes; and Model 767-200 and -300 series airplanes; equipped with certain Goodrich evacuation systems. For certain airplanes, this AD requires replacing the evacuation system shear-pin restraints with new ones. For certain other airplanes, this AD requires an inspection for manufacturing lot numbers; and a general visual inspection of the shear-pin restraints for discrepancies, and corrective actions if necessary. This AD results from several reports of corroded shear-pin restraints that prevented Goodrich evacuation systems from deploying properly. We are issuing this AD to prevent failure of an evacuation system, which could impede an emergency evacuation and increase the chance of injury to passengers and flightcrew during the evacuation.

DATES: This AD becomes effective March 11, 2008.

The Director of the Federal Register approved the incorporation by reference of a certain publication listed in the AD as of March 11, 2008.

ADDRESSES: For service information identified in this AD, contact Goodrich, Aircraft Interior Products, ATTN: Technical Publications, 3414 South Fifth Street, Phoenix, AZ 85040-1169.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Tracy Ton, Aerospace Engineer, Cabin Safety/Mechanical and Environmental Systems Branch, ANM-150L, FAA, Los Angeles Aircraft Certification Office, 3960 Paramount Boulevard, Lakewood, California 90712-4137; telephone (562) 627-5352; fax (562) 627-5210.

SUPPLEMENTARY INFORMATION:

Discussion

The FAA issued a notice of proposed rulemaking (NPRM) to amend 14 CFR part 39 to include an AD that would apply to certain Boeing Model 747-100, 747-100B, 747-100B SUD, 747-200B, 747-200C, 747-200F, 747-300, 747-400, 747-400D, 747-400F, 747SR, and 747SP series airplanes; and Model 767-200 and -300 series airplanes; equipped with certain Goodrich evacuation systems. That NPRM was published in the Federal Register on May 29, 2007 (72 FR 29452). For certain airplanes, that NPRM proposed to require replacing the evacuation system shear-pin restraints with new ones. For certain other airplanes, that NPRM proposed to require an inspection for manufacturing lot numbers; and a general visual inspection of the shear-pin restraints for discrepancies, and corrective actions if necessary.

Comments

We provided the public the opportunity to participate in the development of this AD. We have considered the comments received.

Supportive Comment

One commenter, Air Line Pilots Association, International (ALPA), supports the proposed AD.

Request To Combine Two AD Actions Into One AD

Delta requests that this NPRM be combined with another NPRM (Directorate Identifier 2003-NM-239-AD/Docket No. FAA-2007-28370 (72 FR 31761, June 8, 2007)) so that a single AD is issued. Both NPRMs refer to Goodrich Service Bulletin 25-343, Revision 3, dated January 12, 2007, as an appropriate source of service information for accomplishing the proposed actions.

We do not agree with the commenter's request. While the evacuation slides affected by this AD and the other NPRM are identified in the same service bulletin and have the same unsafe condition, the individual evacuation slides were approved under different certification processes. This AD affects airplanes that had certain evacuation slides approved as part of a type certificate. The other NPRM (Docket No. FAA-2007-28370) affects certain other evacuation slides that were approved under a technical special order (TSO) that specified certain requirements for evacuation slides. The TSO approval process specifies which airplane model(s) a specific evacuation slide can be installed on. These two approval processes affect how we issue ADs. We have not changed this AD or NPRM Docket No. FAA-2007-28370 in this regard.

Request To Revise Sequence of Part Number in a Table

Goodrich, the evacuation slide manufacturer, requests that we reverse the sequence of rows (6) and (7) of Table 1 of the NPRM to match the sequence in the Goodrich service bulletin.

We agree with the commenter's request. Revising the sequence of rows to match the sequence in the service bulletin will reduce any confusion. We have revised paragraphs (c)(6) and (c)(7) of this AD (rows (6) and (7) of Table 1 of the AD) accordingly.

Request To Give Credit for a Service Bulletin

Goodrich also requests that we give credit to operators who accomplish Revision 3 of the service bulletin before the effective date of this AD. Goodrich states that “The wording of Paragraph (j) does not provide credit for actions done in compliance with Revision 3 unless it occurs ‘after the effective date of this AD'.” (We infer that Goodrich interprets the text of paragraph (j) of the AD to mean that operators that have accomplished Revision 3 of the service bulletin before the effective date would be required to accomplish those actions again after the effective date to comply with this AD.)

We disagree with the commenter's request. Paragraph (e) of this AD states that the actions must be done as specified in the AD “unless the actions have already been done.” Goodrich Service Bulletin 25-343, Revision 3, dated January 12, 2007, is referred to as the appropriate source of service information for accomplishing the requirements of paragraph (g) of this AD. Accomplishing the requirements of this AD in accordance with Goodrich Service Bulletin 25-343, Revision 3, dated January 12, 2007, before the effective date of the AD is acceptable for compliance with paragraph (g) of this AD. Paragraph (j) of this AD gives credit for accomplishing earlier revisions of the service bulletin before the effective date of this AD. We have not changed the AD in this regard.

Clarification of Alternative Method of Compliance (AMOC) Paragraph

We have revised this action to clarify the appropriate procedure for notifying the principal inspector before using any approved AMOC on any airplane to which the AMOC applies.

Additional Change

In paragraph (j) of the NPRM, we inadvertently referenced paragraph (h) of the AD. Instead, the correct reference is paragraph (g) of the AD. We have revised paragraph (j) of this AD to cite the correct paragraph.

Conclusion

We have carefully reviewed the available data, including the comments received, and determined that air safety and the public interest require adopting the AD with the changes described previously. We have determined that these changes will neither increase the economic burden on any operator nor increase the scope of the AD.

Costs of Compliance

There are about 1,063 airplanes of the affected design in the worldwide fleet. This AD affects about 144 airplanes of U.S. registry. The following table provides the estimated costs for U.S. operators to comply with this AD.

Estimated Costs
Action | Work hours per slide unit | Average labor rate per hour | Parts | Number of slide units per airplane | Cost per airplane | Fleet cost
Replacement | Between 2 and 9 | $80 | Between $58 and $638, depending on number of restraints | Between 1 and 12 | Between $218 and $16,296 | Between $31,392 and $2,346,624.
Inspection | Between 2 and 9 | 80 | None | Between 1 and 12 | Between $160 and $8,640 | Between $23,040 and $1,244,160.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2008-03-05 Boeing: Amendment 39-15354. Docket No. FAA-2007-28299; Directorate Identifier 2005-NM-139-AD.

Effective Date

(a) This AD becomes effective March 11, 2008.

Affected ADs

(b) None.

Applicability

(c) This AD applies to Boeing Model 747-100, 747-100B, 747-100B SUD, 747-200B, 747-200C, 747-200F, 747-300, 747-400, 747-400D, 747-400F, 747SR, and 747SP series airplanes; and Model 767-200 and -300 series airplanes; certificated in any category; equipped with any Goodrich evacuation system listed in Table 1 of this AD.

Table 1.—Goodrich Evacuation Systems
Goodrich evacuation systems part number | Serial No. (S/N) | Component/part name
(1) 101651-303 | PA2475 through PA2955 inclusive | Slide/Raft, forward/aft doors.
(2) 7A1412-3 through 7A1412-8 inclusive | GU0154 through GU0325 inclusive | Slide, upper deck.
(3) 101651-109 through 101651-303 inclusive | All S/Ns with a B51 prefix, and S/Ns PA0001 through PA2474 inclusive | Slide/Raft, forward/aft doors.
(4) 7A1101-20 through 7A1101-24 inclusive | All S/Ns with a single letter G prefix, and S/Ns GL0001 through GL0099 inclusive | Slide, doors 1 and 2.
(5) 7A1102-20 through 7A1102-24 inclusive | All S/Ns with a single letter G prefix, and S/Ns GN001 through GN121 inclusive | Slide, door 4.
(6) Odd dash numbers 7A1103-45 through 7A1103-51 | All odd S/Ns with a single letter G prefix, and odd S/Ns GC0001 through GC0127 | Slide, door 5, left-hand (LH) side.
(7) Even dash numbers 7A1103-46 through 7A1103-52 | All even S/Ns with a single letter G prefix, and even S/Ns GC0002 through GC0128 | Slide, door 5, right-hand (RH) side.
(8) 7A1104-14 through 7A1104-24 inclusive | All S/Ns with a single letter G prefix, and S/Ns GM0001 through GM0138 inclusive | Slide, crew door.
(9) Odd dash numbers 7A1105-35 through 7A1105-43 | All | Slide, off-wing, LH side.
(10) Even dash numbers 7A1105-36 through 7A1105-44 | All | Slide, off-wing, RH side.
(11) Odd dash numbers 7A1238-3 through 7A1238-69 | All odd S/Ns with a single letter G prefix, and odd S/Ns GE0001 through GE2091 | Slide/Raft, doors 1, 2, and 4, LH side.
(12) Even dash numbers 7A1238-4 through 7A1238-70 | All even S/Ns with a single letter G prefix, and even S/Ns GE0002 through GE2076 | Slide/Raft, doors 1, 2, and 4, RH side.
(13) Odd dash numbers 7A1239-3 through 7A1239-33 | All odd S/Ns with a single letter G prefix, and odd S/Ns GF0001 through GF0649 | Slide/Raft, door 5, LH side.
(14) Even dash numbers 7A1239-4 through 7A1239-34 | All even S/Ns with a single letter G prefix, and even S/Ns GF0002 through GF0650 | Slide/Raft, door 5, RH side.
(15) Odd dash numbers 7A1248-1 through 7A1248-35 | All odd S/Ns with a single letter G prefix, and odd S/Ns GU001 through GU321 | Slide, upper deck, LH side.
(16) Even dash numbers 7A1248-2 through 7A1248-36 | All even S/Ns with a single letter G prefix, and even S/Ns GU002 through GU662 | Slide, upper deck, RH side.
(17) Odd dash numbers 7A1252-1 through 7A1252-9 | All odd S/Ns with a single letter G prefix, and odd S/Ns GO001 through GO505 | Slide, off-wing, LH side.
(18) Even dash numbers 7A1252-2 through 7A1252-10 | All even S/Ns with a single letter G prefix, and even S/Ns GO002 through GO506 | Slide, off-wing, RH side.
(19) Odd dash numbers 7A1255-1 through 7A1255-29 | All odd S/Ns with a single letter G prefix, and odd S/Ns WH0001 through WH0139 | Slide/Raft, door 2, LH side.
(20) Even dash numbers 7A1255-2 through 7A1255-30 | All even S/Ns with a single letter G prefix, and even S/Ns WH0002 through WH0136 | Slide/Raft, door 2, RH side.
(21) Odd dash numbers 7A1256-1 through 7A1256-29 | All odd S/Ns with a single letter G prefix, and odd S/Ns WI0001 through WI0143 | Slide/Raft, door 3, LH side.
(22) Even dash numbers 7A1256-2 through 7A1256-30 | All even S/Ns with a single letter G prefix, and even S/Ns WI0002 through WI0144 | Slide/Raft, door 3, RH side.
(23) Odd dash numbers 7A1257-1 through 7A1257-29 | All odd S/Ns with a single letter G prefix, and odd S/Ns WJ0001 through WJ0167 | Slide/Raft, door 4, LH side.
(24) Even dash numbers 7A1257-2 through 7A1257-30 | All even S/Ns with a single letter G prefix, and even S/Ns WJ0002 through WJ0160 | Slide/Raft, door 4, RH side.
(25) Odd dash numbers 7A1261-1 through 7A1261-33 | All odd S/Ns with a single letter G prefix, and odd S/Ns WG0001 through WG0165 | Slide/Raft, door 1, LH side.
(26) Even dash numbers 7A1261-2 through 7A1261-34 | All even S/Ns with a single letter G prefix, and even S/Ns WG0002 through WG0162 | Slide/Raft, door 1, RH side.
(27) 7A1412-1 through 7A1412-8 inclusive | All S/Ns with a single letter G prefix, and S/Ns GU001 through GU153 | Slide, upper deck.

Unsafe Condition

(d) This AD results from several reports of corroded shear-pin restraints that prevented Goodrich evacuation systems from deploying properly. We are issuing this AD to prevent failure of an evacuation system, which could impede an emergency evacuation and increase the chance of injury to passengers and flightcrew during the evacuation.

Compliance

(e) You are responsible for having the actions required by this AD performed within the compliance times specified, unless the actions have already been done.

Service Bulletin Reference

(f) The term “service bulletin,” as used in this AD, means the Accomplishment Instructions of Goodrich Service Bulletin 25-343, Revision 3, dated January 12, 2007.

Replacement, or Inspections and Corrective Action

(g) Within 36 months after the effective date of this AD, do the actions specified in paragraph (g)(1) or (g)(2) of this AD in accordance with the service bulletin.

(1) For airplanes equipped with any Goodrich evacuation system identified in paragraph (c)(1) or (c)(2) of this AD: Replace the shear-pin restraints with new restraints.

(2) For airplanes equipped with any Goodrich evacuation system identified in paragraphs (c)(3) through (c)(27) of this AD: Do an inspection to verify the manufacturing lot number of the shear-pin restraint. A review of airplane maintenance records is acceptable in lieu of this inspection if the manufacturing lot number of the shear-pin restraint can be conclusively determined from that review.

(i) If a manufacturing lot number from 3375 through 5551 inclusive is found, before further flight, replace the shear-pin restraint with a new restraint.

(ii) If a manufacturing lot number from 3375 through 5551 inclusive is not found, do a general visual inspection of the shear-pin restraints for discrepancies (i.e., corrosion, security of pin retainer/label, overall condition, and lack of play). If any discrepancy is found, before further flight, replace the shear-pin restraint with a new restraint.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Parts Installation

(h) As of the effective date of this AD, no Goodrich evacuation system with a part number and serial number identified in paragraph (c)(1) or (c)(2) of this AD may be installed on any airplane, unless the shear-pin restraints have been replaced with new restraints in accordance with paragraph (g)(1) of this AD.

(i) As of the effective date of this AD, no Goodrich evacuation system with a part number and serial number identified in paragraphs (c)(3) through (c)(27) of this AD may be installed on any airplane, unless the shear-pin restraints have been inspected and found acceptable in accordance with paragraph (g)(2) of this AD.

Credit for Actions Done Using Previous Service Information

(j) Replacements and inspections done before the effective date of this AD in accordance with Goodrich Service Bulletin 25-343, dated October 15, 2003; Revision 1, dated January 31, 2005; or Revision 2, dated October 11, 2006; are acceptable for compliance with the requirements of paragraph (g) of this AD.

Alternative Methods of Compliance (AMOCs)

(k)(1) The Manager, Los Angeles Aircraft Certification Office, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(l) You must use Goodrich Service Bulletin 25-343, Revision 3, dated January 12, 2007, to perform the actions that are required by this AD, unless the AD specifies otherwise. The Director of the Federal Register approved the incorporation by reference of this document in accordance with 5 U.S.C. 552(a) and 1 CFR part 51. Contact Goodrich, Aircraft Interior Products, ATTN: Technical Publications, 3414 South Fifth Street, Phoenix, AZ 85040-1169, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on January 18, 2008.
Ali Bahrami,
Manager, Transport Airplane Directorate, Aircraft Certification Service.

[FR Doc. E8-1724 Filed 2-4-08; 8:45 am]

BILLING CODE 4910-13-P